DEPARTMENT OF INTERIOR

Bureau of Land Management

[(CA-670-1430 ER) CACA-44656]

Notice of Intent To Prepare an Amendment to the California Desert Conservation Area Plan for a 2.8 Mile Right-of-Way Proposed by Imperial Irrigation District for a Double Circuit 161 kV Overhead Transmission Line

AGENCY: Bureau of Land Management; El Centro Field Office, Interior.

ACTION: Notice of Intent (NOI) to prepare an Amendment to the California Desert Conservation Area (CDCA) Plan for a 2.8 mile Right-of-Way Proposed by Imperial Irrigation District (IID) for a Double Circuit 161 kV Overhead Transmission Line.

SUMMARY: This notice announces the Department of Interior, Bureau of Land Management (BLM)'s intent to prepare an amendment to the CDCA to consider issuance of a right-of-way proposed by Imperial Irrigation District (IID) for a double circuit 161 kV overhead transmission line. The purpose of the proposed transmission line is to deliver power generated by a proposed geothermal power plant to an existing IID electrical transmission line (L-line). The proposed L-Line Interconnection is a new 16-mile line of which approximately 2.8 miles will cross Federal lands in sections 8, 9 and 17, Township 13 South, Range 12 East, San Bernardino Meridian, Imperial County, California. The CDCA Plan requires new electrical transmission towers and cables of 161 Kv or above to be placed within designated corridors as identified in the Plan's Energy Production and Utility Corridor Element. An amendment to the CDCA Plan is necessary because the proposed right-of-way is outside any utility corridor designated by the CDCA Plan. The proposed plan amendment would allow an exception to the Energy Production and Utility Corridors element of the CDCA Plan, thereby allowing the issuance of a right-of-way grant to IID for the construction, operation, maintenance, and termination of a double circuit 161 kV overhead transmission line.

DATES: This notice initiates the public scoping process for the proposed plan amendment. Written comments are requested on this notice concerning the scope of analysis of the Environmental Assessment and Proposed Plan Amendment. Comments must be received within 30 days of the publication date of this notice in the Federal Register.

ADDRESSES: Please submit comments concerning the scope of the analysis for the Proposed Plan Amendment and Proposed Imperial Irrigation District 161 kV Transmission Line in writing to Lynda Kastoll, Bureau of Land Management, El Centro Field Office, 1661 So. 4th Street, El Centro, CA 92243. Documents pertinent to this proposal, including comments, may be examined at the El Centro Field Office during regular business hours (7:45 a.m.-4:45 p.m.), Monday through Friday, except holidays. Information concerning the status of the SSU6 Project, notices and other relevant documents are available on the CEC's Web site at http://www.energy.ca.gov/sitingcases/saltonsea. Individual respondents may request confidentiality. If you wish to withhold your name or street address from public review of from disclosure under the Freedom of Information Act, you must state this prominently at the beginning of your written comment. Such requests will be honored to the extent allowed by law. All submissions from organizations and businesses, and from individuals identifying themselves as representatives or officials of organizations or business, will be available for public inspection in their entirety.

FOR FUTHER INFORMATION: Contact Lynda Kastoll at the above address or at (760) 337-4421.

SUPPLEMENTARY INFORMATION: On July 29, 2002, CE Obsidian Energy LLC (CEOE) filed an Application for Certification (AFC) seeking approval from the California Energy Commission (CEC) to construct and operate the Salton Sea Unit 6 Geothermal Energy Power Project (SSU6). The proposed geothermal project is a 185 MW geothermal electric generation facility located on private lands, approximately 1,000 feet southeast of the Salton Sea, and six miles northwest of Calipatria, CA, within an unincorporated area of Imperial County, California. The SSU6 Project will be owned by CEOE, and operated by an affiliate of CEOE. The IID will engineer, construct, own, operate, and maintain the transmission lines required for the facility. The proposed L-Line Interconnection is a new 16-mile double circuit 161 kV transmission line that would provide a direct inter-tie between the proposed SSU6 Project and IID's existing L-Line. The L-Line Interconnection would proceed south from the plant site along the east side of Severe Road, turning west along the south side of Kuns Road, then south along the east side of Crummer Road to Lindsey Road. The line would continue west along the south side of Lindsey Road to Lack Road, and then along the east side of Lack Road to Bannister Road west to Highway 86, and then across approximately 2.8 miles of BLM land to the existing L-Line.

BLM is soliciting comments only on the proposed plan amendment and the proposed right-of-way for the 2.8 miles of transmission line that would cross Federal lands. The CEC has the exclusive authority to certify the construction and operation of the SSU6 Geothermal Power Plant and related facilities. The CEC's thorough site certification process provides a timely review and analysis of all aspects of a proposed project, including need, public health and environmental impacts, safety, efficiency, and reliability. CEC's responsibilities are similar to those of a lead agency under the California Environmental Quality Act (CEQA).

Dated: January 14, 2003.
Greg Thomsen,
Field Manager.

[FR Doc. 03-7164 Filed 3-31-03; 8:45 am]

BILLING CODE 4310-40-P